FEDERAL COMMUNICATIONS COMMISION

47 CFR Part 78

[CS Docket No. 99-250, FCC 02-149]

Cable Television Relay Service

AGENCY: Federal Communications Commission.

ACTION: Final rule; correction.

SUMMARY: In this document the Commission amended its rules to expand eligibility for licenses in the Cable Television Relay Service (CARS) to all Multichannel Video Programming Distributors (“MVPDs”). The action created an alternative channel scheme for 12 GHz CARS frequencies. Because an error was made in the publication of the final rule, this document contains a correction to the final rule document, which was published in the Federal Register on June 27, 2002 (67 FR 43257).

DATES: Effective September 27, 2002.

FOR FURTHER INFORMATION CONTACT: Wayne T. McKee, 202-418-2355, or John P. Wong, 202-418-7012.

SUPPLEMENTARY INFORMATION: On June 27, 2002 (67 FR 43257), the Federal Register published a final rule in this proceeding. Instruction 3 revised the tables in § 78.18(a)(2) to add an alternate channel regime. The table for the Group C Channels incorrectly identified the lower boundaries of Alternate Channels Ca05 through Ca09. This document corrects § 78.18(a)(2).

In rule FR Doc. 02-16093 published June 27, 2002 (67 FR 63257) make the following corrections.

On page 43259, in § 78.18, the Group C Channels table in paragraph (a)(2) is corrected to read as follows:

§ 78.18 Frequency Assignments.

(a) * * *

(2) * * *

Group C Channels
Designation | Channel boundaries (GHz) [C channels] | Alternate change boundaries (GHz) [Ca channels]
C01 ¹ | 12.7005-12.7065 | 12.7005-12.7065
C02 ¹ | 12.7065-12.7125 | 12.7065-12.7125
C03 ¹ | 12.7125-12.7185 | 12.7125-12.7185
C04 ¹ | 12.7185-12.7225 ² | 12.7185-12.7245
C05 ¹ | 12.7225-12.7285 | 12.7245-12.7305
C06 ¹ | 12.7285-12.7345 | 12.7305-12.7365
C07 ¹ | 12.7345-12.7405 | 12.7365-12.7425
C08 ¹ | 12.7405-12.7465 | 12.7425-12.7485
C09 ¹ | 12.7465-12.7525 | 12.7485-12.7545
C10 ¹ | 12.7525-12.7545 ²
C11 ¹ | 12.7545-12.7605 | 12.7545-12.7605
C12 ¹ | 12.7605-12.7665 | 12.7605-12.7665
C13 ¹ | 12.7665-12.7725 | 12.7665-12.7725
C14 ¹ | 12.7725-12.7785 | 12.7725-12.7785
C15 ¹ | 12.7785-12.7845 | 12.7785-12.7845
C16 ¹ | 12.7845-12.7905 | 12.7845-12.7905
C17 ¹ | 12.7905-12.7965 | 12.7905-12.7965
C18 ¹ | 12.7965-12.8025 | 12.7965-12.8025
C19 ¹ | 12.8025-12.8085 | 12.8025-12.8085
C20 ¹ | 12.8085-12.8145 | 12.8085-12.8145
C21 ¹ | 12.8145-12.8205 | 12.8145-12.8205
C22 ¹ | 12.8205-12.8265 | 12.8205-12.8265
C23 ¹ | 12.8265-12.8325 | 12.8265-12.8325
C24 ¹ | 12.8325-12.8385 | 12.8325-12.8385
C25 ¹ | 12.8385-12.8445 | 12.8385-12.8445
C26 ¹ | 12.8445-12.8505 | 12.8445-12.8505
C27 ¹ | 12.8505-12.8565 | 12.8505-12.8565
C28 ¹ | 12.8565-12.8625 | 12.8565-12.8625
C29 ¹ | 12.8625-12.8685 | 12.8625-12.8685
C30 ¹ | 12.8685-12.8745 | 12.8685-12.8745
C31 ¹ | 12.8745-12.8805 | 12.8745-12.8805
C32 ¹ | 12.8805-12.8865 | 12.8805-12.8865
C33 ¹ | 12.8865-12.8925 | 12.8865-12.8925
C34 ¹ | 12.8925-12.8985 | 12.8925-12.8985
C35 ¹ | 12.8985-12.9045 | 12.8985-12.9045
C36 ¹ | 12.9045-12.9105 | 12.9045-12.9105
C37 ¹ | 12.9105-12.9165 | 12.9105-12.9165
C38 ¹ | 12.9165-12.9225 | 12.9165-12.9225
C39 ¹ | 12.9225-12.9285 | 12.9225-12.9285
C40 ¹ | 12.9285-12.9345 | 12.9285-12.9345
C41 ¹ | 12.9345-12.9405 | 12.9345-12.9405
C42 ¹ | 12.9405-12.9465 | 12.9405-12.9465
C43 ¹ | 12.9465-12.9525 | 12.9465-12.9525
¹ See footnote 1 following GROUP A CHANNELS.
² For transmission of pilot subcarriers or other authorized narrow band signals.

* * * * *

Federal Communications Commission.
Marlene H. Dortch,
Secretary.

[FR Doc. 02-24594 Filed 9-26-02; 8:45 am]

BILLING CODE 6412-01-P